DEPARTMENT OF COMMERCE

Foreign-Trade Zones Board

(Docket 15-2007)

Foreign-Trade Zone 36 -- Galveston, Texas, Application for Subzone, M-I L.L.C. (Barite Grinding and Milling), Galveston, Texas

An application has been submitted to the Foreign-Trade Zones Board (the Board) by the Board of Trustees of the Galveston Wharves, grantee of Foreign-Trade Zone (FTZ) 36, requesting special-purpose subzone status for the barite grinding and milling facilities of M-I L.L.C. (M-I), located in Galveston, Texas. The application was submitted pursuant to the provisions of the Foreign-Trade Zones Act, as amended (19 U.S.C. 81a-81u), and the regulations of the Board (15 CFR Part 400). It was formally filed on April 16, 2007.

The M-I facilities (14 acres, 3 parcels, 26 employees) are located at 4105 Old Port Industrial Boulevard, in Galveston, adjacent to the Houston Customs and Border Protection port of entry. The M-I facilities are used for manufacturing, warehousing and distribution activities related to the grinding and milling of raw barite into ground barite (currently approximately 280,000 tons annually, with future capacity of up to approximately 780,000 tons annually). Ground barite is used in the production of drilling fluids (drilling mud) and various specialty chemicals for use by the oil and gas exploration industry. M-I sources the majority of its raw barite from abroad. The duty rate on the imported raw barite is $1.25 per ton.

This application requests authority for M-I to conduct the activity under FTZ procedures, which would exempt M-I from Customs duty payments on the barite used in export production. Less than 3 percent of production is exported. On domestic sales, the company could choose the lower duty rate (duty-free) that applies to the ground barite. M-I also anticipates realizing additional savings on materials that become scrap/waste during production. The application indicates that the FTZ-related savings would improve the plant's international competitiveness.

In accordance with the Board's regulations, a member of the FTZ staff has been designated examiner to investigate the application and report to the Board.

Public comment is invited from interested parties. Submissions (original and 3 copies) shall be addressed to the Board's Executive Secretary at the address listed below. The closing period for their receipt is June 25, 2007. Rebuttal comments in response to material submitted during the foregoing period may be submitted during the subsequent 15-day period (to July 9, 2007).

A copy of the application and accompanying exhibits will be available at each of the following addresses: U.S. Department of Commerce Export Assistance Center, 15600 John F. Kennedy Blvd, Suite 530, Houston, TX 77032; and, Office of the Executive Secretary, Foreign-Trade Zones Board, Room 2814B, U.S. Department of Commerce, 1401 Constitution Ave, NW., Washington, DC 20230. For further information contact Christopher Kemp at christopher_kemp@ita.doc.gov or (202) 482-0862.

Dated: April 16, 2007.
Andrew McGilvray,
Executive Secretary.

[FR Doc. E7-7783 Filed 4-23-07; 8:45 am]

BILLING CODE 3510-DS-S